FEDERAL COMMUNICATIONS COMMISSION

Sunshine Act Meeting; FCC Announces Details for Public Hearing on Media Ownership in Harrisburg, PA

February 16, 2007.

Washington, DC—The Federal Communications Commission today announced further details of its previously announced Harrisburg field hearing regarding media ownership (see press release dated February 8, 2007.)

The hearing date, time, and location are as follows:

Date: Friday, February 23, 2007.

Time: 9 a.m.-2:30 p.m.

Preliminary Schedule (subject to change): 9 a.m.-9:30 a.m.: Welcome/Opening Remarks

9:30 a.m.-11 a.m.: Panel Discussion

11 a.m.-12:30 p.m.: Public Comment

12:30 p.m.-1 p.m.: Break

1 p.m.-2:30 p.m.: Public Comment

Location: Whitaker Center for Science and the Arts, Sunoco Performance Theater, 222 Market Street, Harrisburg, Pennsylvania 17101.

Link to Whitaker Center: http://www.whitakercenter.org.

The purpose of the hearing is to fully involve the public in the process of the 2006 Quadrennial Broadcast Media Ownership Review that the Commission is currently conducting. The hearing is open to the public, and seating will be available on a first-come, first-served basis. This hearing is the third in a series of media ownership hearings the Commission intends to hold across the country.

There will be one panel of presenters followed by public comment. The hearing format will enable members of the public to participate via “open microphone.”

Open captioning and sign language interpreters will be provided for this event. Other reasonable accommodations for people with disabilities are available upon request. Include a description of the accommodation you will need including as much detail as you can. Also include a way we can contact you if we need more information. Make your request as early as possible. Last minute requests will be accepted, but may not be possible to fill. Send an e-mail to fcc504@fcc.gov or call the Consumer & Governmental Affairs Bureau: For reasonable accommodations: 202-418-0530 (voice), 202-418-0432 (TTY).

Further details including names of the panelists will be released prior to the hearing.

For additional information about the hearing, please visit the FCC's Web site at http://www.fcc.gov/ownership. Press inquiries should be directed to Clyde Ensslin, at 202-418-0506, or David Fiske, at 202-418-0513.

Federal Communications Commission.
Marlene H. Dortch,
Secretary.

[FR Doc. 07-819 Filed 2-20-07; 11:23 am]

BILLING CODE 6712-01-P